DEPARTMENT OF THE INTERIOR

National Park Service

Notice of Inventory Completion: Southwest Museum of the American Indian, Autry National Center, Los Angeles, CA

AGENCY: National Park Service, Interior.

ACTION: Notice.

Notice is here given in accordance with the Native American Graves Protection and Repatriation Act (NAGPRA), 25 U.S.C. 3003, of the completion of an inventory of human remains in the control of the Southwest Museum of the American Indian, Autry National Center, Los Angeles, CA. The human remains were removed from Ontario County, NY.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Southwest Museum professional staff in consultation with representatives of the Cayuga Nation of New York, Oneida Nation of New York, Oneida Tribe of Indians of Wisconsin, Onondaga Nation of New York, Seneca Nation of New York, Seneca-Cayuga Tribe of Oklahoma, St. Regis Band of Mohawk Indians of New York, Tonawanda Band of Seneca Indians of New York, and Tuscarora Nation of New York, as well as the Haudenosaunee Standing Committee on Burial Rights and Regulations, a non-federally recognized Indian group.

In 1885, human remains representing a minimum of two individuals were removed from a grave near Canandaigua, Ontario County, NY. The museum has no additional information regarding the circumstances of removal. Mrs. Phyllis Lockley, mother of Robert Campbell Lockley, acquired the human remains as part of her son's estate. On January 18, 1962, Mrs. Lockley signed the original Deed of Gift and transferred the human remains to the museum, which accessioned the human remains into its collection the same year. No known individuals were identified. No associated funerary objects are present.

On the original Deed of Gift, the credit line identifies all objects donated by Mrs. Lockley as “materials collected by Mrs. Hope Gans Lockley, 1885.” However, in a letter written after the Deed of Gift, Mrs. Lockley asks the museum to correct the deed to attribute only one donated item to Mrs. Hope Gans Lockley as “all of the other items were from the estate of (her) son, Robert Campbell Lockley.” The museum responded to this request on February 9, 1962, to assure her that the required change in the last line of the deed would be executed. It is unclear why this correction was not made before Mrs. Lockley signed the final document.

Museum records and physical anthropological assessment have determined the human remains to be of probable Native American descent. Archeological and historical evidence indicate that the Owasco culture occupied central and eastern New York and the Glaciated Alleghany Plateau during the Woodland Stage (1000 B.C.-A.D. 1600). Around A.D. 1600, the Owasco culture underwent a cultural transition. Between A.D. 1450 and 1600, diagnostic characteristics indicative of the Seneca culture begin to become evident in the archeological record. From the early 16th century until the American Revolution, the Seneca occupied a region between the Genesee River and Canandaigua Lake, which includes Livingstone and Ontario Counties, NY, as well as the southern portion of Monroe County, NY. A cultural connection can be reasonably traced from the Owasco people to the present-day Seneca Nation of New York, Seneca-Cayuga Tribe of Oklahoma, and Tonawanda Band of Seneca Indians of New York.

Officials of the Southwest Museum have determined that, pursuant to 25 U.S.C. 3001 (9-10), the human remains described above represent the physical remains of two individuals of Native American ancestry. Officials of the Southwest Museum also have determined that, pursuant to 25 U.S.C. 3001 (2), there is a relationship of shared group identity that can be reasonably traced between the Native American human remains and the Seneca Nation of New York, Seneca-Cayuga Tribe of Oklahoma, and Tonawanda Band of Seneca Indians of New York.

Representatives of any other Indian tribe that believes itself to be culturally affiliated with the human remains should contact Dr. Duane H. King, Executive Director, or Jamie Hebert, NAGPRA Research Associate for Collections, Southwest Museum of the American Indian, Autry National Center, 234 Museum Drive, Los Angeles, CA 90065, telephone (323) 221-2164, before December 4, 2006. Repatriation of the human remains to the Seneca Nation of New York, Seneca-Cayuga Tribe of Oklahoma, and Tonawanda Band of Seneca Indians of New York may proceed after that date if no additional claimants come forward.

Southwest Musuem is responsible for notifying the Cayuga Nation of New York, Oneida Nation of New York, Oneida Tribe of Indians of Wisconsin, Onondaga Nation of New York, Seneca Nation of New York, Seneca-Cayuga Tribe of Oklahoma, St. Regis Band of Mohawk Indians of New York, Tonawanda Band of Seneca Indians of New York, and Tuscarora Nation of New York, as well as the Haudenosaunee Standing Committee on Burial Rights and Regulations, a non-federally recognized Indian group, that this notice has been published.

Dated: September 28, 2006
Sherry Hutt,
Manager, National NAGPRA Program.

[FR Doc. E6-18483 Filed 11-1-06; 8:45 am]

BILLING CODE 4312-50-S